DEFENSE BASE CLOSURE AND REALIGNMENT COMMISSION

Notice of the Defense Base Closure and Realignment Commission—Change to the Location of a Previously Announced Open Meeting (New Orleans, LA); Correction

AGENCY: Defense Base Closure and Realignment Commission.

ACTION: Notice; Defense Base Closure and Realignment Commission—change to the location of a previously announced open meeting (New Orleans, LA); correction.

SUMMARY: The Defense Base Closure and Realignment Commission published a document in the Federal Register of June 7, 2005, concerning an open meeting to receive comments from Federal, state and local government representatives and the general public on base realignment and closure actions in Florida, Louisiana and Mississippi that have been recommended by the Department of Defense (DoD). The location of this meeting has been changed.

The delay of this change notice resulted from a recent change to the meeting location. The Commission requests that the public consult the 2005 Defense Base Closure and Realignment Commission Web site, http://www.brac.gov, for updates.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Correction

In the Federal Register of June 7, 2005, in FR Doc. 05-11237, on page 33128, in the second column, correct the SUMMARY; and ADDRESSES; captions to read:

SUMMARY: Notice is hereby given that a delegation of Commissioners of the Defense Base Closure and Realignment Commission will hold an open meeting on July 12, 2005 from 9 a.m. to 3:30 p.m. at the Mahalia Jackson Theatre of the Performing Arts, 801 North Rampart Street, New Orleans, Louisiana 70116. The Commission requests that the public consult the 2005 Defense Base Closure and Realignment Commission Web site, http://www.brac.gov, for updates.

ADDRESSES: Mahalia Jackson Theatre of the Performing Arts, 801 North Rampart Street, New Orleans, LA 70116.

Dated: July 5, 2005.
Jeannette Owings-Ballard,
Administrative Support Officer.

[FR Doc. 05-13477 Filed 7-7-05; 8:45 am]

BILLING CODE 5001-06-P